DEPARTMENT OF LABOR

Office of the Secretary

Agency Information Collection Activities; Submission for OMB Review; Comment Request; Annual Refiling Survey

ACTION: Notice.

SUMMARY: The Department of Labor (DOL) is submitting the Bureau of Labor Statistics (BLS) sponsored information collection request (ICR) revision titled, “Annual Refiling Survey,” to the Office of Management and Budget (OMB) for review and approval for use in accordance with the Paperwork Reduction Act (PRA) of 1995 (44 U.S.C. 3501 et seq.).

DATES: Submit comments on or before December 3, 2014.

ADDRESSES: A copy of this ICR with applicable supporting documentation; including a description of the likely respondents, proposed frequency of response, and estimated total burden may be obtained free of charge from the RegInfo.gov Web site at http://www.reginfo.gov/public/do/PRAViewICR?ref_nbr=201409-1220-002 (this link will only become active on the day following publication of this notice) or by contacting Michel Smyth by telephone at 202-693-4129 (this is not a toll-free number) or sending an email to DOL_PRA_PUBLIC@dol.gov.

Submit comments about this request to the Office of Information and Regulatory Affairs, Attn: OMB Desk Officer for DOL-BLS, Office of Management and Budget, Room 10235, 725 17th Street NW., Washington, DC 20503, Fax: 202-395-6881 (this is not a toll-free number), email: OIRA_submission@omb.eop.gov. Commenters are encouraged, but not required, to send a courtesy copy of any comments to the U.S. Department of Labor—OASAM, Office of the Chief Information Officer, Attn: Departmental Information Compliance Management Program, Room N1301, 200 Constitution Avenue NW., Washington, DC 20210, email: DOL_PRA_PUBLIC@dol.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: This ICR seeks OMB approval for revisions to the Annual Refiling Survey (ARS). The ARS is used in conjunction with the BLS Quarterly Census of Employment and Wages (QCEW) program. The primary purpose of the ARS is to verify or to correct the North American Industry Classification System (NAICS) code assigned to establishments as well as to obtain accurate mailing and physical location addresses of establishments. As a result, changes in the industrial and geographical compositions of the economy are captured in a timely manner and reflected in BLS statistical programs. The QCEW program provides data necessary to administer State Unemployment Insurance systems. QCEW data accurately reflect the extent of coverage of the State UI laws and are used for determining UI total and taxable wages rates and for other purposes. Federal, State, and local government officials as well as private researchers depend on accurate geographical and industrial coding based on the 2012 North American Industry Classification System Manual.

This ICR has been classified as a revision because of changes to the scope and frequency of the ARS and because of minor revisions to the notification letters and collection instruments. The DOL, in coordination with the OMB, curtailed the QCEW program through a permanent budget reduction of $4.8 million in FY 2014. As a part of the effort to develop a reduction strategy with minimal impact on data quality, the ARS is being reduced in scope and is changing approach.

An analysis considered how frequently establishments changed their industry, location, and ownership. The analysis looked at these changes over three ARS cycles covering nine years, and it showed there were industries with low rates of change. Thus, certain NAICS industries exist that traditionally have low volatility based on factors such as infrastructure, intellectual property, or advanced degrees that make them unlikely candidates for transitioning from one industry to another. Rather than surveying one-third of businesses in these low-change industries every year, the QCEW program will survey one-sixth of these businesses each year, putting them on a six-year cycle. The six-year cycle preserves the ability to identify trends in these slow-changing industries, while reducing workload, postage, and other survey-related costs. The ARS will also exclude establishments with three or fewer employees starting in FY 2015. Nationwide, this will account for about 160,000 fewer units annually. The Act establishing the BLS and Wagner-Peyser Act section 15 authorize this information collection. See 29 U.S.C. 1, 2, and 49l-2(a).

This information collection is subject to the PRA. A Federal agency generally cannot conduct or sponsor a collection of information, and the public is generally not required to respond to an information collection, unless the OMB under the PRA approves it and displays a currently valid OMB Control Number. In addition, notwithstanding any other provisions of law, no person shall generally be subject to penalty for failing to comply with a collection of information that does not display a valid Control Number. See 5 CFR 1320.5(a) and 1320.6. The DOL obtains OMB approval for this information collection under Control Number 1220-0032. The current approval is scheduled to expire on December 31, 2016; however, the DOL notes that existing information collection requirements submitted to the OMB receive a month-to-month extension while they undergo review. New requirements would only take effect upon OMB approval. For additional substantive information about this ICR, see the related notice published in the Federal Register on July 23, 2013 (78 FR 44160).

Interested parties are encouraged to send comments to the OMB, Office of Information and Regulatory Affairs at the address shown in the ADDRESSES section within 30 days of publication of this notice in the Federal Register. In order to help ensure appropriate consideration, comments should mention OMB Control Number 1220-0032. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-Bureau of Labor Statistics.

Title of Collection: Annual Refiling Survey.

OMB Control Number: 1220-0032.

Affected Public: Private Sector—businesses or other for-profits, not-for-profit institutions, and farms.

Total Estimated Number of Respondents: 959,209.

Total Estimated Number of Responses: 959,209.

Total Estimated Annual Burden Hours: 100,296.

Total Estimated Annual Other Costs Burden: $0.

Dated: October 28, 2014.
Michel Smyth,
Departmental Clearance Officer.

[FR Doc. 2014-25997 Filed 10-31-14; 8:45 am]

BILLING CODE 4510-24-P